NUCLEAR REGULATORY COMMISSION

10 CFR Part 35

[NRC-2018-0297]

RIN 3150-AK80

Rubidium-82 Generators, Emerging Technologies, and Other Medical Use of Byproduct Material; Extension of Comment Period

AGENCY: Nuclear Regulatory Commission.

ACTION: Regulatory basis; extension of comment period.

SUMMARY: On July 3, 2023, the U.S. Nuclear Regulatory Commission (NRC) solicited comments on the regulatory basis for the planned rulemaking on “Rubidium-82 Generators, Emerging Technologies, and Other Medical Use of Byproduct Material.” The public comment period was originally scheduled to close on October 31, 2023. The NRC has decided to extend the public comment period to allow more time for members of the public to develop and submit their comments.

DATES: The due date of comments requested in the document published on July 3, 2023 (88 FR 42654) is extended. Comments should be filed no later than December 15, 2023. Comments received after this date will be considered, if it is practical to do so, but the NRC is able to ensure consideration only for comments received on or before this date.

ADDRESSES: You may submit comments by any of the following methods; however, the NRC encourages electronic comment submission through the Federal rulemaking website:

• Federal Rulemaking website: Go to https://www.regulations.gov and search for Docket ID NRC-2018-0297. Address questions about NRC dockets to Dawn Forder; telephone: 301-415-3407; email: Dawn.Forder@nrc.gov. For technical questions contact the individuals listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. eastern time, Federal workdays; telephone: 301-415-1677.

For additional direction on obtaining information and submitting comments, see “Obtaining Information and Submitting Comments” in the SUPPLEMENTARY INFORMATION section of this document.

FOR FURTHER INFORMATION CONTACT: Andrew Carrera, Office of Nuclear Material Safety and Safeguards, telephone: 301-415-1078, email: Andrew.Carrera@nrc.gov; and Maryann Ayoade, Office of Nuclear Material Safety and Safeguards, telephone: 301-415-0862, email: Maryann.Ayoade@nrc.gov. Both are staff of the U.S. Nuclear Regulatory Commission, Washington, DC 20555-0001.

SUPPLEMENTARY INFORMATION:

I. Obtaining Information and Submitting Comments

A. Obtaining Information

Please refer to Docket ID NRC-2018-0297 when contacting the NRC about the availability of information for this action. You may obtain publicly available information related to this action by any of the following methods:

• Federal Rulemaking Website: Go to https://www.regulations.gov and search for Docket ID NRC-2018-0297.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

B. Submitting Comments

The NRC encourages electronic comment submission through the Federal Rulemaking website (https://www.regulations.gov). Please include Docket ID NRC-2018-0297 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On July 3, 2023, the NRC solicited comments on the regulatory basis for a planned rulemaking on “Rubidium-82 Generators, Emerging Technologies, and Other Medical Use of Byproduct Material.” The public comment period was originally scheduled to close on October 31, 2023. By letter dated October 19, 2023 (ADAMS Accession No. ML23292A176), the Mercurie Consulting, LLC; American Association of Physicist in Medicine; American College of Radiology; American Society of Radiation Oncology; and Society of Nuclear Medicine and Medical Imaging requested that the NRC extend the comment period by 45 days. The NRC has decided to grant this request and extend the public comment period on this document until December 15, 2023, to allow more time for members of the public to submit their comments.

The NRC may post materials related to this document, including public comments, on the Federal rulemaking website at https://www.regulations.gov under Docket ID NRC-2018-0297. In addition, the Federal rulemaking website allows members of the public to receive alerts when changes or additions occur in a docket folder. To subscribe: (1) navigate to the docket folder (NRC-2018-0297); (2) click the “Subscribe” link; and (3) enter an email address and click on the “Subscribe” link.

Dated: October 23, 2023.
For the Nuclear Regulatory Commission.
Catherine E. Kanatas,
Acting Deputy Director, Division of Rulemaking, Environmental, and Financial Support, Office of Nuclear Material Safety and Safeguards.

[FR Doc. 2023-23701 Filed 10-26-23; 8:45 am]

BILLING CODE 7590-01-P